ENVIRONMENTAL PROTECTION AGENCY

[FRL-7465-1]

National Clean Water Act Recognition Awards: Availability of Application and Nomination Information

AGENCY: Environmental Protection Agency.

ACTION: Notice of availability.

SUMMARY: This notice announces the availability of application and nomination information for the U.S. EPA's 2003 Clean Water Act Recognition Awards. The awards recognize municipalities and industries for outstanding and innovative technological achievements in wastewater treatment and pollution abatement programs. Recognition is made for projects or programs in the following categories: outstanding operations and maintenance (O&M) at wastewater treatment facilities; biosolids exemplary management; pretreatment program excellence; outstanding storm water management; and, combined sewer overflow (CSO) control program excellence. The awards are intended to educate the public about the contributions wastewater treatment facilities make to clean water; to encourage public support for municipal and industrial efforts in effective wastewater management, biosolids disposal and reuse, and wet weather pollution control; and, to recognize communities that use innovative practices to meet CWA permitting requirements.

DATES: Nominations are due to EPA headquarters no later than May 30, 2003.

ADDRESSES: Applications and nomination information can be obtained from the EPA regional offices and our Web site at http://www.epa.gov/owm/intnet.htm.

FOR FURTHER INFORMATION CONTACT: Maria E. Campbell, Telephone: (202) 564-0628. Facsimile Number: (202) 501-2396. E-mail: campbell.maria@epa.gov. Also visit the Office of Wastewater Management's Web page at http://www.epa.gov/owm.

SUPPLEMENTARY INFORMATION: The CWA Recognition Awards are authorized by section 501(a) and (e) of the Clean Water Act, and 33 U.S.C. 1361(a) and (e). Interested parties must be in compliance with all applicable CWA requirements, or otherwise have a satisfactory record with respect to environmental quality. Applications and nominations for the national award must be recommended by EPA regions. A regulation in the Federal Register on February 8, 2002, (67 FR 6138, February 8, 2002) establishes a framework for the annual CWA Recognition Awards (formerly known as the National Wastewater Management Excellence Awards.)

Dated: February 4, 2003.
Jane S. Moore,
Acting Director, Office of Wastewater Management.

[FR Doc. 03-5911 Filed 3-11-03; 8:45 am]

BILLING CODE 6560-50-P